DEPARTMENT OF COMMERCE

National Oceanic and Atmospheric Administration

[I.D. 071301C]

Endangered and Threatened Species; Take of Anadromous Fish

AGENCY: National Marine Fisheries Service (NMFS), National Oceanic and Atmospheric Administration (NOAA), Commerce.

ACTION: Issuance of permit 1307.

SUMMARY: Notice is hereby given that NMFS has issued a permit, on May 4, 2001, to the Grants Pass Irrigation District of Grants Pass, OR, that authorizes incidental take of anadromous fish listed under the Endangered Species Act (ESA), subject to certain conditions set forth therein.

ADDRESSES: Habitat Conservation Division, NWR, 525 NE Oregon St, Portland OR 97232-2737,phone:503-231-2377, fax: 503-231-6893.

FOR FURTHER INFORMATION CONTACT: Dr. Nancy Munn, Portland, OR, phone:503-231-6269, fax: 503-231-6893, e-mail: nancy.munn@noaa.gov .

SUPPLEMENTARY INFORMATION: The following ESA-listed evolutionary significant units (ESUs) are covered in this notice:

Threatened southern Oregon/northern California coho salmon (Oncorhynchus kisutch).

In addition, Permit 1307 would authorize incidental take of the following unlisted species if they become listed prior to expiration of the permit: Klamath Mountain Province steelhead (O. mykiss), and southern Oregon/California coastal chinook salmon (O. tshawytscha).

Permits Issued

Notice was published on March 15, 2001 (66 FR 15080), that Grants Pass Irrigation District filed an application for an incidental take permit (1307). The applicant proposes to operate irrigation diversion facilities at Savage Rapids Dam on the Rogue River, OR. The permit covers activities associated with the operation of irrigation diversion facilities at Savage Rapids Dam. Activities include all aspects of operating the dam, including opening and closing of the radial gates, installing and removing stoplogs, and operating the fish ladders, the turbine and the screens, and the diversion facilities. The permit also covers monitoring activities and related scientific experiments, as described in the Habitat Conservation Plan and associated Environmental Assessment. The Finding of No Significant Impact was signed on May 4, 2001. Permit 1307 was issued on May 4, 2001, authorizing take of listed species. The take of juvenile coho salmon from injury and mortality is estimated to be 1,400 fish to 2,500 fish. Total mortality of adult coho salmon is estimated to be 200 to 1,200 fish. Permit 1307 expires May 4, 2002.

Issuing the permit was based on a finding that Grants Pass Irrigation District has met the permit issuance criteria of 50 CFR 222.22 (c). The permit took effect for listed covered species on May 4, 2001. For unlisted covered species, the permit will take effect upon the listing of a species as endangered, and for a species listed as threatened, on the effective date of a rule under section 4(d) of the ESA prohibiting take of the species.

Authority

The permit was issued under the authority of section 10 (a)(1)(B) of the Endangered Species Act of 1973 (ESA) (16 U.S.C. 1531-1543). The permit issuance is based on a finding that such permit: (1) was applied for in good faith; (2) would not operate to the disadvantage of the listed species which are the subject of the permits; and (3) is consistent with the purposes and policies set forth in section 2 of the ESA. Authority to take listed species is subject to conditions set forth in the permit, in the incidental take statement of the Biological Opinion, and in the Habitat Conservation Plan. Permits and modifications are issued in accordance with and are subject to the ESA and NMFS regulations governing listed fish and wildlife permits (50 CFR parts 222-227).

All statements and opinions contained in the permit action summary are those of the applicant and do not necessarily reflect the views of NMFS.

Dated: July 18, 2001.
Phil Williams,
Acting Chief, Endangered Species Division, Office of Protected Resources, National Marine Fisheries Service.

[FR Doc. 01-18414 Filed 7-23-01; 8:45 am]

BILLING CODE 3510-22-S